FARM CREDIT SYSTEM INSURANCE CORPORATION

Sunshine Act Meeting

SUMMARY: Notice is hereby given of the quarterly meeting of the Farm Credit System Insurance Corporation Board (Board).

Date and Time: The meeting of the Board will be held at the offices of the Farm Credit Administration in McLean, Virginia, on March 26, 2004, from 9 a.m. until such time as the Board concludes its business.

FOR FURTHER INFORMATION CONTACT: Jeanette C. Brinkley, Secretary to the Farm Credit System Insurance Corporation Board, (703) 883-4009, TTY (703) 883-4056.

ADDRESSES: Farm Credit System Insurance Corporation, 1501 Farm Credit Drive, McLean, Virginia 22102.

SUPPLEMENTARY INFORMATION: Parts of this meeting of the Board will be open to the public (limited space available), and parts will be closed to the public. In order to increase the accessibility to Board meetings, persons requiring assistance should make arrangements in advance. The matters to be considered at the meeting are:

Open Session

A. Approval of Minutes

—December 11, 2003 (Quarterly Meeting)

Closed Session

Report on System Performance and Insurance Risk.

Open Session

B. Business Reports

1. Financials.

2. Quarterly Report on Annual Performance Plan.

3. Report on Insured Obligations.

A. New Business

1. Review of Insurance Premium Rate Alternatives.

2. Presentation of 2003 Audit Results.

Closed Session

Executive Session.

Dated: March 22, 2004.
Jeanette C. Brinkley,
Secretary, Farm Credit System Insurance Corporation Board.

[FR Doc. 04-6689 Filed 3-22-04; 11:28 am]

BILLING CODE 6710-10-P